SMALL BUSINESS ADMINISTRATION

Data Collection Available for Public Comments

AGENCY: Small Business Administration.

ACTION: 60-day notice and request for comments.

SUMMARY: The Small Business Administration (SBA) intends to request approval, from the Office of Management and Budget (OMB) for the collection of information described below. The Paperwork Reduction Act (PRA) of 1995, 44 U.S.C Chapter 35 requires federal agencies to publish a notice in the Federal Register concerning each proposed collection of information before submission to OMB, and to allow 60 days for public comment in response to the notice. This notice complies with that requirement.

DATES: Submit comments on or before February 9, 2015.

ADDRESSES: Send all comments to Kim McClellan, Senior Policy Analyst, Office of Veterans Business Development, U.S. Small Business Administration, 409 3rd Street SW., 5th Floor, Washington, DC 20416.

FOR FURTHER INFORMATION CONTACT: Kim McClellan, Senior Policy Analyst, 202-205-6777, kimoanh.mcclellan@sba.gov, or Curtis B. Rich, Management Analyst, 202-205-7030, curtis.rich@sba.gov.

SUPPLEMENTARY INFORMATION: This is a request for the collection of new information.

The Office of Veterans Business Development (OVBD) at the U.S. Small Business Administration implements applicable sections of the Small Business Act, of Public Laws and Executive Orders governing veteran programs, and to support the SBA mission to assist eligible American veterans and Reservist Component service members by providing access to the tools and resources necessary for entrepreneurs to start, run, and grow their businesses. OVBD manages the Veterans Business Development Centers (VBOC) Program. Established in 1999 pursuant to Public Law 106-50, VBOCs offer pre-business plan workshops, concept assessment and business plan preparation, feasibility analysis entrepreneurship counseling and training, online assistance, and mentorship service to veteran entrepreneurs and veteran-owned small business concerns controlled by veterans, service-disabled veterans, and Reserve Component members.

As part of OVBD's effort to enhance the services provided by VBOC to veterans and veteran-owned small businesses, OVBD has acquired the service of a research firm to conduct a series of data collection. In addition, a part of the forthcoming new cycle of grant solicitation for 2015, SBA will assess the population assisted by current VBOCs, funded in 2010, the services provided to individuals, the preliminary impact of services on the business goals of clients, client satisfaction with VBOCs, and lessons learned and recommendations by the VBOCs and clients. Through the WebCATS/Neoserra system, SBA has the ability to collect some data on VBOC clients and VBOC activities. However, to get a better understanding of the full range of topics mentioned above, SBA needs to collect survey and interview data from VBOC clients, directors, and staff (non-directors of VBOCs that help provide services to people). Specifically, SBA proposes the use of five different instruments for data collection and analysis. These instruments are: (1) A VBOC client survey; (2) a VBOC director survey; (3) VBOC client interviews; (4) VBOC director interviews; and (5) VBOC staff interviews. SBA plans to administer each instrument to more than nine individuals.

The surveys will be administered electronically, while the interviews will be conducted either in-person or via phone. The interview questions will contain all open-ended questions, while the web-based survey will contain both open- and close-ended questions. The types of information that will be collected in the instruments can be found in the “Summary of Information Collection” section below. Quantitative analysis (the primary method of data analysis for the survey data) and qualitative analysis (the primary method of data analysis for the interview data) will be used on the data collected. Quantitative analysis will consist of univariate and multivariate statistical analyses, while qualitative analysis will consist of establishing clear rules for interpretation and finding themes in the interview data. The information collected and analyzed from these instruments will contribute to performance metrics and program goals as well as recommendations on improving program practices.

Solicitation of Public Comments

SBA is requesting comments on (a) whether the collection of information is necessary for the agency to properly perform its functions; (b) whether the burden estimates are accurate; (c) whether there are ways to minimize the burden, including through the use of automated techniques or other forms of information technology; and (d) whether there are ways to enhance the quality, utility, and clarity of the information.

Summary of Information Collection

1. VBOC Director Interview Questions

Directors of VBOCs under the 2015 grant will be interviewed. Director interviews will consist of questions about client demographics, outreach practices, services provided, staff capacity, intake protocols, reporting protocols, referral network, feedback mechanisms, best practices, lessons learned, and challenges. These questions will be open-ended to allow directors to fully explain how their respective programs operate. These interviews will be conducted either in-person or via phone. The total estimated number of annual responses from the director interviews will be 10. The estimated average completion time of a survey is 1.5 hours. The total estimated annual hour burden is 15.

2. VBOC Staff Interview Questions

Staff of VBOCs under the 2015 grant will be interviewed. Staff interviews will consist of questions about staff background and training, client flow, day-to-day operations, services provided, intake protocols, reporting protocols, referral practices, feedback mechanisms, best practices, lessons learned, and challenges. These questions will be open-ended to allow staff to describe their role at the VBOC. These interviews will be conducted either in-person or via phone. The total estimated number of annual responses from the staff interviews will be 20. The estimated average completion time of a survey is 1 hour. The total estimated annual hour burden is 20.

3. VBOC Client Interview Questions

Clients of VBOCs under the 2015 grant will be interviewed. Clients are defined as individuals that received at least one type of service (i.e., counseling or training) from a VBOC. Client interviews will consist of questions about topics such as how they found the VBOC, what services they received, if their needs were met, and how they would improve the program. The questions will be open-ended to allow clients to fully describe themselves and their experiences at the VBOC. These interviews will be conducted either in-person or via phone. The total estimated number of annual responses from the client interviews will be 20. The estimated average completion time of a survey is 0.5 hours. The total estimated annual hour burden is 10.

4. VBOC Client Survey

Clients of VBOCs under the 2010 and 2015 grants will be surveyed. This survey will consist of questions about the demographics of clients as well as their needs and goals, how they were assessed, the services they received, the resources they used, client outcomes, impact of services, and client satisfaction with VBOCs. This survey will be administered electronically. The total estimated number of annual responses from the client survey will be 4000 (up to approximately 3000 responses from the 2010 VBOC grantees and up to approximately 1000 responses from the 2015 VBOC grantees). The estimated average completion time of a survey is 25 minutes. The total estimated annual hour burden is 1,666.67.

5. VBOC Director Survey

Directors of VBOCs under the 2015 grant will be surveyed. This survey will consist of questions about the VBOC directors, staff capacity, client characteristics, services, client tracking, and referral network to assess implementation practices across VBOCs. This survey will be administered electronically. The total estimated number of annual responses from the director survey will be 10. The estimated average completion time of a survey is 80 minutes. The total estimated annual hour burden is 13.33.

Total Estimated Annual Responses Across All Instruments: Approximately 4,060 total people (approximately 3,000 clients surveyed from the 2010 VBOC grantees and approximately 1000 clients surveyed from the 2015 VBOC grantees; approximately 10 directors surveyed from the 2015 VBOC grantees; approximately 10 directors interviewed from the 2015 VBOC grantees; approximately 20 staff members interviewed from the 2015 VBOC grantees; and approximately 20 clients interviewed from the 2015 VBOC grantees).

Total Estimated Annual Hour Burden Across All Instruments: Approximately 1725 hours (approximately 120 minutes per director interview, approximately 60 minutes per staff interview, approximately 30 minutes per client interview, approximately 80 minutes hours per director survey, and approximately 25 minutes per client survey).

Curtis B. Rich,
Management Analyst, U.S. Small Business Administration.

[FR Doc. 2014-29140 Filed 12-10-14; 8:45 am]

BILLING CODE 8025-01-P